DEPARTMENT OF TRANSPORTATION

Federal Highway Administration

Buy America Waiver Notification

AGENCY: Federal Highway Administration (FHWA), DOT.

ACTION: Notice.

SUMMARY: This notice provides information regarding the FHWA's finding that a Buy America waiver is appropriate for certain steel products used in Federal-aid construction projects in Oregon and the City of San Diego, CA.

DATES: The effective date of the waiver is November 19, 2008.

FOR FURTHER INFORMATION CONTACT: For questions about this notice, please contact Mr. Gerald Yakowenko, FHWA Office of Program Administration, (202) 366-1562, gerald.yakowenko@dot.gov. For legal questions, please contact Mr. Michael Harkins, FHWA Office of the Chief Counsel, (202) 366-4928, michael.harkins@dot.gov. Office hours for the FHWA are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's finding that a Buy America waiver is appropriate for two specific cases.

In accordance with section 130 of Division K of the “Consolidated Appropriations Act, 2008” (Pub. L. 110-161), the FHWA published on its Web site two notices of intent to issue Buy America waivers: (1) A waiver for two custom built motor control centers and stainless steel products for the Siuslaw River moveable bridge project in Oregon http://www.fhwa.dot.gov/construction/contracts/waivers.cfm?id=21 on September 23rd; and (2) a waiver for bridge suspender cable, spider fittings, wire mesh, and grade 2205 plate (for experimental research) in the City of San Diego, CA, http://www.fhwa.dot.gov/construction/contracts/waivers.cfm?id=20 on September 30th. The FHWA received no comments in response to the two custom built motor control centers in Oregon which suggested that the custom built motor control centers may not be available domestically. Further investigation and inquiry revealed that the product is not available domestically. The FHWA received two comments in response to experimental use of stainless steel products for pedestrian bridges in the City of San Diego, CA. The comments suggested that there are companies capable of manufacturing the products domestically. The City of San Diego contacted the companies and verified that Insteel Industries, Inc., does not manufacture stainless steel suspenders. The spider fittings are available domestically, but the companies do not produce compatible glassware, making it impossible to secure the required 10-year performance warranty for the spider fitting/glassware system. Salit Specialty Rebar does not produce the stainless steel wire mesh for the decorative railings, and the Talley Metals Company does not produce the grade 2205 stainless steel plate. During the 15-day comment period, the FHWA conducted additional nationwide review to locate potential domestic manufacturers for the products. Based on all the information available to the agency, including the responses received to the notices as well as the agency's nationwide review, the FHWA concludes that there are no domestic manufacturers for the two custom built motor control centers and stainless steel products or the bridge suspender cable, spider fittings, wire mesh and grade 2205 plate.

In accordance with the provisions of section 117 of the “SAFETEA-LU Technical Corrections Act of 2008” (Pub. L. 110-244, 122 Stat. 1572), the FHWA is providing this notice as its finding that a waiver of Buy America requirements is appropriate pursuant to 23 CFR 635.410(c)(1). The FHWA invites public comment on this finding for an additional 15 days following the effective date of the finding. Comments may be submitted to the FHWA's Web site via the links above to the Oregon and the City of San Diego waiver pages noted above.

(Authority: 23 U.S.C. 313; Pub. L. 110-161, 23 CFR 635.410.)

Issued on: November, 10, 2008.
Thomas J. Madison. Jr.,
Federal Highway Administrator.

[FR Doc. E8-27284 Filed 11-17-08; 8:45 am]

BILLING CODE 4910-22-P